DEPARTMENT OF LABOR

Employment and Training Administration

[NAFTA-3415]

AMP, Inc., a Tyco International Ltd. Company, Fiber Optic Division, Middletown, Pennsylvania; Notice of Revised Determination on Reconsideration

By letter of February 10, 2000, petitioners requested reconsideration of the Department's negative determination applicable to workers and former workers of the subject firm.

The initial investigation resulted in a negative determination issued on December 28, 1999, based on the finding that criterion (1) of the worker group eligibility requirements of paragraph (a)(1) of section 250 of the Trade Act of 1974, as amended, was not met. Net employment at the Larue facility increased in 1999 compared to 1998. The notice of negative determination was published in the Federal Register on January 14, 2000 (65 FR 2433).

The petitioners presented information showing that the articles subject of the petition investigation were produced in Middletown, not Larue, Pennsylvania. On reconsideration the company provided employment data for the Middletown, Pennsylvania plant of the subject firm. Employment declined from 1998 to 1999 and in the first two months of 2000. The initial investigation confirmed that there was a shift in production of fiber optic connectors from Middletown to Mexico. The workers at the plant are not separately identifiable by product line.

Conclusion

After careful consideration of the new facts obtained on reconsideration, I conclude that there was a shift in production from the workers' firm to Mexico of articles that are like or directly competitive with those produced by the subject firm. In accordance with the provisions of the Trade Act of 1974, I make the following revised determination:

All workers of AMP, Incorporated, A Tyco International LTD. Company, Fiber Optic Division, Middletown, Pennsylvania, who became totally or partially separated from employment on or after August 30, 1998, are eligible to apply for NAFTA-TAA under Section 250 of the Trade Act of 1974.

Signed at Washington, DC this 20th day of March 2000.
Grant D. Beale,
Program Manager, Division of Trade Adjustment Assistance.

[FR Doc. 00-7481 Filed 3-24-00; 8:45 am]

BILLING CODE 4510-30-M